DEPARTMENT OF ENERGY

Federal Energy Regulatory Commission

Combined Notice of Filings

Take notice that the Commission has received the following Natural Gas Pipeline Rate and Refund Report filings:

Docket Numbers: RP95-408-088.

Applicants: Columbia Gas Transmission, LLC.

Description: Annual Report on Sharing Profits from Base Gas Sales with Customers of Columbia Gas Transmission, LLC.

Filed Date: 4/26/21.

Accession Number: 20210426-5152.

Comments Due: 5 p.m. ET 5/10/21.

Docket Numbers: RP21-752-000.

Applicants: ANR Storage Company.

Description: Compliance filing 2021 Operational Purchases and Sales Report.

Filed Date: 4/27/21.

Accession Number: 20210427-5094.

Comments Due: 5 p.m. ET 5/10/21.

Docket Numbers: RP21-753-000.

Applicants: Discovery Gas Transmission LLC.

Description: Imbalance Cash-out Report for 2020 Annual Fuel Activity for Discovery Gas Transmission LLC.

Filed Date: 4/27/21.

Accession Number: 20210427-5138.

Comments Due: 5 p.m. ET 5/10/21.

Docket Numbers: RP21-754-000.

Applicants: Carolina Gas Transmission, LLC.

Description: Compliance filing CGT—April 28, 2021 Service Agreement Termination Notice.

Filed Date: 4/28/21.

Accession Number: 20210428-5032.

Comments Due: 5 p.m. ET 5/10/21.

Docket Numbers: RP21-755-000.

Applicants: Cameron Interstate Pipeline, LLC.

Description: Annual Report of Penalty Revenues of Cameron Interstate Pipeline, LLC.

Filed Date: 4/28/21.

Accession Number: 20210428-5293.

Comments Due: 5 p.m. ET 5/10/21.

Docket Numbers: RP21-756-000.

Applicants: Cameron Interstate Pipeline, LLC.

Description: Annual Report of Transportation Imbalances and Cash-Out Activity of Cameron Interstate Pipeline, LLC.

Filed Date: 4/28/21.

Accession Number: 20210428-5294.

Comments Due: 5 p.m. ET 5/10/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2021.
Nathaniel J. Davis, Sr.,
Deputy Secretary.

[FR Doc. 2021-09482 Filed 5-4-21; 8:45 am]

BILLING CODE 6717-01-P